DEPARTMENT OF ENERGY

Federal Energy Regulatory Commission

[Docket No. CP21-31-001]

Texas Eastern Transmission, LP; Notice of Request for Extension of Time

Take notice that on August 22, 2023, Texas Eastern Transmission, LP (Texas Eastern), requested that the Federal Energy Regulatory Commission (Commission) grant an extension of time until December 23, 2023, to complete construction of the Perulack Compressor Units Replacement Project (Project) and place the Project facilities into service, as authorized in the September 23, 2021 Order Issuing Certificate and Approving Abandonment (Certificate Order),¹ under section 7 of the Natural Gas Act (NGA).

¹ Texas Eastern Transmission, LP, 176 FERC ¶ 61,206 (2021).

Texas Eastern states it has completed abandonment activities as of June 30, 2023, and since that time has installed major foundations, set prefabricated buildings, installed major equipment, erected the compressor building, set the turbines, installed a portion of the main gas and utility pipeline, and installed electrical raceways and wiring. The remaining Project activities include the installation of turbine air ducting and exhaust, main gas and utility piping to the turbines and ancillary equipment, installation of electrical panels and terminations, and site development.

Texas Eastern explains that its original construction schedule contemplated construction activities commencing in August 2021, running for approximately 16 months, and included construction windows based on meeting customer firm service requirements during peak demand season. Texas Eastern began construction in October 2021 shortly after receiving the Certificate Order, however, modifications to the schedule and construction phases were required to meet Texas Eastern's obligations for the upcoming winter heating season, resulting in a 24-month construction timeline. To avoid service disruption during the winter heating season, Texas Eastern states it planned for construction activities not to occur during the winter when there is a high demand for gas. Accordingly, the remaining Project activities are scheduled to be completed before the start of the 2023-2024 winter heating season. Texas Eastern avers its request for a three-month extension is consistent with Commission precedent and will not result in any additional environmental impacts not already examined on the record.

This notice establishes a 15-calendar day intervention and comment period deadline. Any person wishing to comment on Texas Eastern's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the NGA (18 CFR 157.10).

As a matter of practice, the Commission itself generally acts on requests for extensions of time to complete construction for NGA facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act (NEPA).⁵ At the time a pipeline requests an extension of time, orders on certificates of public convenience and necessity are final and the Commission will not re-litigate their issuance.⁶ The Director of the Office of Energy Projects, or his or her designee, will act on all of those extension requests that are uncontested.

² Contested proceedings are those where an intervenor disputes any material issue of the filing. 18 CFR 385.2201(c)(1) (2022).

³ Algonquin Gas Transmission, LLC, 170 FERC ¶ 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room. For assistance, contact FERC at FERCOnlineSupport@ferc.gov or call toll-free, (886) 208-3676 or TTY, (202) 502-8659.

The Commission strongly encourages electronic filings of comments in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5:00 p.m. Eastern Time on September 8, 2023.

Dated: August 24, 2023.
Debbie-Anne A. Reese,
Deputy Secretary.

[FR Doc. 2023-18743 Filed 8-29-23; 8:45 am]

BILLING CODE 6717-01-P